DEPARTMENT OF ENERGY

Federal Energy Regulatory Commission

Combined Notice of Filings #1

Take notice that the Commission received the following exempt wholesale generator filings:

Docket Numbers: EG21-182-000.

Applicants: Independence Wind Energy LLC.

Description: Notice of Self-Certification of Exempt Wholesale Generator Status of Independence Wind Energy LLC.

Filed Date: 6/29/21.

Accession Number: 20210629-5078.

Comments Due: 5 p.m. ET 7/20/21.

Docket Numbers: EG21-183-000.

Applicants: Glass Sands Wind Energy, LLC.

Description: Notice of Self-Certification Exempt Wholesale Generator of Glass Sands Wind Energy, LLC.

Filed Date: 6/29/21.

Accession Number: 20210629-5206.

Comments Due: 5 p.m. ET 7/20/21.

Take notice that the Commission received the following electric rate filings:

Docket Numbers: ER10-2822-019; ER12-2076-007; ER12-2077-007; ER12-2078-007; ER12-2081-007; ER12-2083-007; ER12-2084-007; ER12-2086-007; ER12-2097-007; ER12-2101-007; ER12-2102-008; ER12-2106-007; ER12-2107-007; ER12-2108-007; ER12-2109-007; ER16-1250-011.

Applicants: Atlantic Renewable Projects II LLC, Avangrid Renewables, LLC, Barton Windpower LLC, Buffalo Ridge I LLC, Buffalo Ridge II LLC, Elm Creek Wind, LLC, Elm Creek Wind II LLC, Farmers City Wind, LLC, Flying Cloud Power Partners, LLC, MinnDakota Wind LLC, Moraine Wind LLC, Moraine Wind II LLC, New Harvest Wind Power LLC, Northern Iowa Windpower II LLC, Rugby Wind LLC, Trimont Wind I LLC.

Description: Triennial Market Power Analysis for Central Region of Atlantic Renewable Projects II LLC, et al.

Filed Date: 6/28/21.

Accession Number: 20210628-5183.

Comments Due: 5 p.m. ET 8/27/21.

Docket Numbers: ER10-3057-005; ER14-1348-007; ER14-1349-007; ER19-1646-001.

Applicants: Dow Pipeline Company, The Dow Chemical Company, Union Carbide Corporation, Performance Materials NA, Inc.

Description: Triennial Market Power Analysis for Central Region of Dow Pipeline Company, et al.

Filed Date: 6/29/21.

Accession Number: 20210629-5205.

Comments Due: 5 p.m. ET 8/30/21.

Docket Numbers: ER10-3097-013.

Applicants: Bruce Power Inc.

Description: Triennial Market Power Analysis for Central Region of Bruce Power Inc.

Filed Date: 6/28/21.

Accession Number: 20210628-5181.

Comments Due: 5 p.m. ET 8/27/21.

Docket Numbers: ER10-3246-018; ER10-2474-024; ER10-2475-024; ER10-2984-052; ER13-1266-035; ER15-2211-032.

Applicants: PacifiCorp, Sierra Pacific Power Company, Nevada Power Company, Merrill Lynch Commodities, Inc., CalEnergy, LLC, MidAmerican Energy Services, LLC.

Description: Notice of Change in Status of PacifiCorp, et al.

Filed Date: 6/24/21.

Accession Number: 20210624-5193.

Comments Due: 5 p.m. ET 7/15/21.

Docket Numbers: ER11-2534-009; ER16-2234-005.

Applicants: Morris Cogeneration, LLC, EF Kenilworth LLC.

Description: Triennial Market Power Analysis for Northeast Region of Morris Cogeneration, LLC, et al.

Filed Date: 6/29/21.

Accession Number: 20210629-5186.

Comments Due: 5 p.m. ET 8/30/21.

Docket Numbers: ER20-2382-002.

Applicants: Midcontinent Independent System Operator, Inc.

Description: Compliance filing: 2021-06-29_SA 3516 Ameren-Broadlands Wind Farm Sub FSA GIA (J468) to be effective 10/1/2020.

Filed Date: 6/29/21.

Accession Number: 20210629-5105.

Comments Due: 5 p.m. ET 7/20/21.

Docket Numbers: ER20-2385-001.

Applicants: Midcontinent Independent System Operator, Inc.

Description: Compliance filing: 2021-06-29 SA 3025 Ameren-Broadland Wind Farm Sub 1st Rev FCA (J468) to be effective 7/9/2020.

Filed Date: 6/29/21.

Accession Number: 20210629-5112.

Comments Due: 5 p.m. ET 7/20/21.

Docket Numbers: ER20-2386-001.

Applicants: Midcontinent Independent System Operator, Inc.

Description: Compliance filing: 2021-06-29_SA 3024 Broadlands-Ameren Sub 2nd Rev GIA (J468) to be effective 7/9/2020.

Filed Date: 6/29/21.

Accession Number: 20210629-5076.

Comments Due: 5 p.m. ET 7/20/21.

Docket Numbers: ER20-2700-002.

Applicants: Deuel Harvest Wind Energy LLC.

Description: Triennial Market Power Analysis for Central Region of Deuel Harvest Wind Energy LLC under ER20-2700.

Filed Date: 6/29/21.

Accession Number: 20210629-5183.

Comments Due: 5 p.m. ET 8/30/21.

Docket Numbers: ER21-1810-001.

Applicants: Marco DM Holdings, L.L.C.

Description: Tariff Amendment: Correction to Market-Based Rate Tariff Revision Filing to be effective 6/30/2021.

Filed Date: 6/28/21.

Accession Number: 20210628-5058.

Comments Due: 5 p.m. ET 7/19/21.

Docket Numbers: ER21-2184-000.

Applicants: PJM Interconnection, L.L.C.

Description: PJM Interconnection, L.L.C. submits Prospective Waiver of the requirements of the Amended and Restated Operating Agreement of PJM Interconnection, L.L.C.

Filed Date: 6/22/21.

Accession Number: 20210622-5167.

Comments Due: 5 p.m. ET 7/13/21.

Docket Numbers: ER21-2209-000.

Applicants: Harts Mill Solar, LLC.

Description: Harts Mill Solar, LLC Submits a One-Time Limited Waiver of the 90-day Prior Notice Requirement Set Forth in Schedule 2 of the PJM Interconnection, L.L.C Open Access Transmission Tariff.

Filed Date: 6/23/21.

Accession Number: 20210623-5160.

Comments Due: 5 p.m. ET 7/14/21.

Docket Numbers: ER21-2232-000.

Applicants: Southwest Power Pool, Inc.

Description: § 205(d) Rate Filing: 3675R2 Doniphan Electric Cooperative Assn, Inc. NITSA NOA to be effective 9/1/2021.

Filed Date: 6/28/21.

Accession Number: 20210628-5087.

Comments Due: 5 p.m. ET 7/19/21.

Docket Numbers: ER21-2233-000.

Applicants: Southwest Power Pool, Inc.

Description: § 205(d) Rate Filing: 1636R25 Kansas Electric Power Cooperative, Inc. NITSA and NOA to be effective 9/1/2021.

Filed Date: 6/28/21.

Accession Number: 20210628-5097.

Comments Due: 5 p.m. ET 7/19/21.

Docket Numbers: ER21-2234-000.

Applicants: El Paso Electric Company.

Description: § 205(d) Rate Filing: Service Agreement No. 355, Simultaneous Exchange with Dynasty to be effective 8/1/2021.

Filed Date: 6/28/21.

Accession Number: 20210628-5101.

Comments Due: 5 p.m. ET 7/19/21.

Docket Numbers: ER21-2235-000.

Applicants: New York State Electric & Gas Corporation.

Description: § 205(d) Rate Filing: Rate Schedule FERC No. 87 Supplement to be effective 9/1/2021.

Filed Date: 6/28/21.

Accession Number: 20210628-5109.

Comments Due: 5 p.m. ET 7/19/21.

Docket Numbers: ER21-2236-000.

Applicants: Virginia Electric and Power Company, PJM Interconnection, L.L.C.

Description: § 205(d) Rate Filing: Dominion submits Two WDSA, SA No. 5975 and 6079 to be effective 10/2/2020.

Filed Date: 6/28/21.

Accession Number: 20210628-5115.

Comments Due: 5 p.m. ET 7/19/21.

Docket Numbers: ER21-2237-000.

Applicants: PJM Interconnection, L.L.C.

Description: Tariff Cancellation: Notice of Cancellation of WMPA, SA No. 3187; Queue No. W3-134 to be effective 6/29/2021.

Filed Date: 6/29/21.

Accession Number: 20210629-5015.

Comments Due: 5 p.m. ET 7/20/21.

Docket Numbers: ER21-2238-000.

Applicants: ITC Great Plains, LLC, Southwest Power Pool, Inc.

Description: § 205(d) Rate Filing: 3817 ITC Great Plains and Iron Star Wind Project FCRA to be effective 8/29/2021.

Filed Date: 6/29/21.

Accession Number: 20210629-5024.

Comments Due: 5 p.m. ET 7/20/21.

Docket Numbers: ER21-2239-000.

Applicants: PJM Interconnection, L.L.C.

Description: § 205(d) Rate Filing: Rev. to OA, Schedule 12 RE: defaulted member, JCTP, LLC to be effective 8/30/2021.

Filed Date: 6/29/21.

Accession Number: 20210629-5036.

Comments Due: 5 p.m. ET 7/20/21.

Docket Numbers: ER21-2240-000.

Applicants: Southwest Power Pool, Inc.

Description: § 205(d) Rate Filing: 1883R10 Evergy Kansas Central, Inc. NITSA NOA to be effective 9/1/2021.

Filed Date: 6/29/21.

Accession Number: 20210629-5085.

Comments Due: 5 p.m. ET 7/20/21.

Docket Numbers: ER21-2241-000.

Applicants: Southwest Power Pool, Inc.

Description: § 205(d) Rate Filing: 1887R11 Evergy Kansas Central, Inc. NITSA NOA to be effective 9/1/2021.

Filed Date: 6/29/21.

Accession Number: 20210629-5093.

Comments Due: 5 p.m. ET 7/20/21.

Docket Numbers: ER21-2242-000.

Applicants: Tri-State Generation and Transmission Association, Inc.

Description: Tariff Cancellation: Notice of Cancellation of Service Agreement No. 890 to be effective 6/24/2020.

Filed Date: 6/29/21.

Accession Number: 20210629-5097.

Comments Due: 5 p.m. ET 7/20/21.

Docket Numbers: ER21-2243-000.

Applicants: PJM Interconnection, L.L.C.

Description: § 205(d) Rate Filing: Amendment to Service Agreement No. 5849; Queue No. AE2-131 to be effective 10/28/2020.

Filed Date: 6/29/21.

Accession Number: 20210629-5100.

Comments Due: 5 p.m. ET 7/20/21.

Docket Numbers: ER21-2244-000.

Applicants: Southwest Power Pool, Inc.

Description: § 205(d) Rate Filing: 1889R10 Evergy Kansas Central, Inc. NITSA NOA to be effective 9/1/2021.

Filed Date: 6/29/21.

Accession Number: 20210629-5102.

Comments Due: 5 p.m. ET 7/20/21.

Docket Numbers: ER21-2245-000.

Applicants: Southwest Power Pool, Inc.

Description: § 205(d) Rate Filing: 1891R10 Evergy Kansas Central, Inc. NITSA NOA to be effective 9/1/2021.

Filed Date: 6/29/21.

Accession Number: 20210629-5109.

Comments Due: 5 p.m. ET 7/20/21.

Take notice that the Commission received the following electric securities filings:

Docket Numbers: ES21-53-000.

Applicants: NorthWestern Corporation.

Description: Application under Section 204 of the Federal Power Act for Authorization to Issue Securities for NorthWestern Corporation.

Filed Date: 6/25/21.

Accession Number: 20210625-5258.

Comments Due: 5 p.m. ET 7/16/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2021.
Debbie-Anne A. Reese,
Deputy Secretary.

[FR Doc. 2021-14369 Filed 7-6-21; 8:45 am]

BILLING CODE 6717-01-P